DEPARTMENT OF ENERGY

Federal Energy Regulatory Commission

Sunshine Act Meetings

TIME AND DATE: April 21, 2022, 10:00 a.m.

PLACE: Room 2C, 888 First Street NE, Washington, DC 20426.

Open to the public via video Webcast only. Join FERC online to view this event live at https://ferc.capitolconnection.org/.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1089th—Meeting
[Open Meeting; April 21, 2022, 10:00 a.m.]
Item No. | Docket No. | Company
Administrative
A-1 | AD22-1-000 | Agency Administrative Matters.
A-2 | AD22-2-000 | Customer Matters, Reliability, Security and Market Operations.
A-3 | AD06-3-000 | Market Update.
Electric
E-1 | RM21-17-000 | Building for the Future Through Electric Regional Transmission Planning and Cost Allocation and Generator Interconnection.
E-2 | AD21-10-000 | Modernizing Wholesale Electricity Market Design.
E-3 | ER21-42-000 | Tenaska Power Services Co.
E-4 | ER21-51-000; ER21-51-001; ER21-51-002 | bp Energy Company.
| ER21-55-000; ER21-55-001 | Mesquite Power, LLC.
E-5 | ER21-47-000 | Tuscon Electric Power Company.
E-6 | ER21-46-000 | Mercuria Energy America, LLC.
E-7 | ER21-57-000; ER21-57-001 | Shell Energy North America (US), L.P.
E-8 | ER21-2818-001; EL22-4-001 (consolidated) | Tri-State Generation and Transmission Association, Inc.
E-9 | ER20-1075-002 | California Independent System Operator Corporation.
E-10 | EL22-38-000 | PacifiCorp.
E-11 | EL22-37-000 | Idaho Power Company.
E-12 | EL22-41-000 | Puget Sound Energy, Inc.
E-13 | EL22-40-000 | Public Service Company of New Mexico.
E-14 | EL22-39-000 | Public Service Company of Colorado.
E-15 | EC22-27-000 | FirstEnergy Corp.
E-16 | EC22-33-000 | FirstEnergy Transmission, LLC, American Transmission Systems, Incorporated, Mid-Atlantic Interstate Transmission, LLC, Trans-Allegheny Interstate Line Company, Potomac-Appalachian Transmission Highline, LLC, and North American Transmission Company II LLC.
Gas
G-1 | PL20-3-000 | Actions Regarding the Commission's Policy on Price Index Formation and Transparency, and Indices Referenced in Natural Gas and Electric Tariffs.
G-2 | RP22-725-000 | Guardian Pipeline, L.L.C.
G-3 | RP19-73-003 | El Paso Natural Gas Company, L.L.C.
Hydro
H-1 | P-9685-036 | Ampersand Cranberry Lake Hydro, LLC.
H-2 | P-3819-012 | STS Hydropower, LLC and Sugarloaf Hydro, LLC.
Certificates
C-1 | CP20-27-000 | North Baja Pipeline, LLC.
C-2 | CP20-484-000; CP20-485-000 | ANR Pipeline Company. Great Lakes Transmission Gas Limited Partnership.
C-3 | CP20-493-000 | Tennessee Gas Pipeline Company, L.L.C.
C-4 | CP21-474-000 | Rover Pipeline LLC.
C-5 | CP21-492-000 | Rover Pipeline LLC.
C-6 | CP95-35-000 | EcoElectrica, L.P.

A free webcast of this event is available through https://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit https://ferc.capitolconnection.org/ or contact Shirley Al-Jarani at 703-993-3104.

Issued: April 14, 2022.
Debbie-Anne A. Reese,
Deputy Secretary.

[FR Doc. 2022-08471 Filed 4-15-22; 4:15 pm]

BILLING CODE 6717-01-P